DEPARTMENT OF LABOR

Employment and Training Administration

[TA-W-40,801]

LTV Steel Corporation River Terminal Railway Company LTV Railroad Companies, Cleveland, Ohio: Notice of Termination of Investigation

Pursuant to Section 221 of the Trade Act of 1974, an investigation was initiated on February 11, 2002, in response to a worker petition filed by the United Transportation Union, Local 1661, on behalf of workers at River Terminal Railway Company, LTV Railroad Companies, LTV Steel Corporation, Cleveland, Ohio.

The petitioning group of workers is subject to an ongoing investigation (TA-W-40,786). Consequently, further investigation in this case would serve no purpose, and the investigation has been terminated.

Dated: Signed in Washington, D.C. this 21st day of March 2002.
Linda G. Poole,
Certifying Officer, Division of Trade Adjustment Assistance.

[FR Doc. 02-7596 Filed 3-28-02; 8:45 am]

BILLING CODE 4510-30-M